OFFICE OF MANAGEMENT AND BUDGET

Proposed Guidelines for Ensuring and Maximizing the Quality, Objectivity, Utility, and Integrity of Information Disseminated by Federal Agencies

AGENCY: Office of Management and Budget, Executive Office of the President.

ACTION: Proposed guidelines.

SUMMARY: This notice requests comment on proposed guidelines for implementing Section 515 of the Treasury and General Government Appropriations Act for Fiscal Year 2001 (Pub. L. 106-554). Section 515 directs the Office of Management and Budget (OMB) to issue government-wide guidelines that “provide policy and procedural guidance to Federal agencies for ensuring and maximizing the quality, objectivity, utility, and integrity of information (including statistical information) disseminated by Federal agencies.” Within one year after OMB issues these guidelines, agencies must issue their own implementing guidelines that include “administrative mechanisms allowing affected persons to seek and obtain correction of information maintained and disseminated by the agency” that does not comply with the OMB guidelines.

DATES: Comments must be received by August 13, 2001.

ADDRESSES: Comments on the proposed guidelines should be addressed to Brooke Dickson of the Office of Information and Regulatory Affairs, Office of Management and Budget, Washington, D.C. 20503.

FOR FURTHER INFORMATION CONTACT: Brooke Dickson at phone: (202) 395-3191; fax: (202) 395-5167; e-mail: informationquality@omb.eop.gov.

SUPPLEMENTARY INFORMATION: In Section 515(a) of the Treasury and General Government Appropriations Act for Fiscal Year 2001 (Pub. L. 106-554; H.R. 5658), Congress directed the Office of Management and Budget (OMB) to issue, by September 30, 2001, government-wide guidelines that “provide policy and procedural guidance to Federal agencies for ensuring and maximizing the quality, objectivity, utility, and integrity of information (including statistical information) disseminated by Federal agencies.” Section 515(b) goes on to state that the OMB guidelines shall:

(1) Apply to the sharing by Federal agencies of, and access to, information disseminated by Federal agencies; and

(2) Require that each Federal agency to which the guidelines apply—

(A) Issue guidelines ensuring and maximizing the quality, objectivity, utility, and integrity of information (including statistical information) disseminated by the agency, by not later than 1 year after the date of issuance of the guidelines under subsection (a);

(B) Establish administrative mechanisms allowing affected persons to seek and obtain correction of information maintained and disseminated by the agency that does not comply with the guidelines issued under subsection (a); and

(C) Report periodically to the Director—

(i) The number and nature of complaints received by the agency regarding the accuracy of information disseminated by the agency; and

(ii) How such complaints were handled by the agency.

Background

The focus of Section 515 is on the Federal Government's information dissemination activities. Indeed, Federal agencies have disseminated information to the public for decades. Until recently, agencies have disseminated information principally by making paper copies of documents available to the public. In recent years, however, Federal information dissemination has grown due to the advent of the Internet, which has ushered in a revolution in communications. The Internet has enabled Federal agencies to disseminate an ever increasing amount of information. Congress has strongly encouraged the Executive Branch's dissemination efforts in statutes that include particular dissemination activities and in the government-wide dissemination provisions of the Paperwork Reduction Act of 1995 (44 U.S.C. chapter 35) (the PRA). In addition, the Executive Branch's strong support for information dissemination is reflected in the dissemination provisions of OMB Circular A-130, “Management of Federal Information Resources.”

Section 515 builds upon the existing agency responsibility to assure information quality. According to the PRA, agency Chief Information Officers (CIOs) must manage information resources to “improve the integrity, quality, and utility of information to all users within and outside the agency, including capabilities for ensuring dissemination of public information, public access to government information, and protections for privacy and security.” Before an agency collects information from 10 or more persons, the agency must seek public comment “to enhance the quality, utility, and clarity of the information to be collected.” The agency then must obtain OMB approval that is based upon an evaluation of the agency's need for the information, the “practical utility” of the information to be collected, and the burden that would be imposed on the public in responding to the collection. The CIO must certify to OMB that the agency, “to the maximum extent practicable, uses information technology to reduce burden and improve data quality.”

In developing the proposed guidelines to implement Section 515, OMB recognizes that Federal agencies disseminate many types of information in many different ways. Even numerous examples can only begin to describe the breadth of information disseminated by the Federal government. Agencies disseminate statistical information, such as the aggregated information from the 2000 Census and the monthly and quarterly economic reports issued by the Bureau of Economic Analysis and the Bureau of Labor Statistics. Agencies disseminate information that aids members of the public in their daily activities, such as the National Weather Service's weather reports and the FAA's air travel advisories. Agencies disseminate information that they collect from regulated entities, such as EPA's dissemination of Toxic Release Inventory information. Agencies disseminate information that they create or obtain in the course of developing regulations, often involving scientific research and economic analysis. Agencies disseminate information when they issue reports and studies. Moreover, agencies provide the public with basic descriptions of agency authorities, activities and programs, along with the contact information for the public to interact with and access that information or those services.

Underlying Principles

In accordance with Section 515, OMB has designed the proposed guidelines to help agencies ensure and maximize the quality, utility, objectivity and integrity of the information that they disseminate. It is crucial that Federal agencies disseminate information that meets these standards. In this respect, the fact that the Internet enables persons to communicate information quickly and easily to a wide audience not only offers great benefits to society, but also increases the potential harm that can result from the dissemination of information that does not meet OMB and agency information quality standards. Recognizing the wide variety of information Federal agencies disseminate and the wide variety of dissemination practices that agencies have, OMB has developed the proposed guidelines with several principles in mind.

First, OMB has designed the proposed guidelines to apply to a wide variety of government-wide dissemination activities, ranging in importance and scope, through each agency's issuance of guidelines tailored to that agency's programs, dissemination activities, and information resources management and administrative practices. OMB has also designed the proposed guidelines to be generic enough to fit all media, be they in printed, electronic, or other form. OMB has sought to avoid the problems that would be inherent in attempting to develop detailed, prescriptive, “one-size-fits-all” government-wide guidelines that would artificially require different types of dissemination activities to be treated in the same manner.

Second, OMB has designed the guidelines so that agencies will meet basic information quality standards. Given the administrative mechanisms required by Section 515 as well as the standards set forth in the PRA, it is clear that agencies should not disseminate information that does not meet some basic level of quality. We recognize that some government information may need to meet higher or more specific information quality standards than those that would apply to other types of government information. The more important the information, the higher the quality standards to which it should be held. The guidelines recognize, however, that information quality comes at a cost. Accordingly, the agencies should weigh the costs (for example, including costs attributable to agency processing effort, respondent burden, maintenance of needed privacy, and assurances of suitable confidentiality) and the benefits of higher information quality in the development of such information, and the level of quality to which the information disseminated will be held.

Third, OMB has designed the proposed guidelines so that agencies can apply them in a common-sense and workable manner. It is important that these guidelines do not impose unnecessary administrative burdens that would inhibit agencies from continuing to take advantage of the Internet and other technologies to disseminate information that can be of great benefit and value to the public. In this regard, OMB encourages agencies to rely, to the extent possible, upon existing agency processes for evaluating information dissemination activities rather than require the creation of new and potentially duplicative or contradictory processes. The primary example of this is that the proposed guidelines recognize that, in accordance with OMB Circular A-130, agencies already have in place well-established information quality standards and administrative mechanisms that allow persons to seek and obtain correction of information that is maintained and disseminated by the agency. Under the proposed guidelines, agencies may continue to rely on such administrative mechanisms if they satisfy the standards in the guidelines. Similarly, agencies may rely on their implementation of the Federal Government's computer security laws (formerly, the Computer Security Act, and now the computer security provisions of the PRA) to establish appropriate security safeguards for ensuring the “integrity” of the information that the agencies disseminate.

Summary of Proposed Guidelines

These proposed guidelines direct agencies to develop information resources management procedures for reviewing and documenting for users the quality (including the objectivity, utility, and integrity) of information before it is disseminated. In addition, agencies are to establish administrative mechanisms allowing affected persons to seek and obtain correction of information maintained and disseminated by the agency that does not comply with the OMB guidelines. Consistent with the underlying principles we describe above, these guidelines stress the importance of having agencies apply these standards and develop their administrative mechanisms so they can be implemented in a common sense and workable manner. Moreover, agencies must apply these standards flexibly, consonant with existing agency information resources management and administrative practices, and appropriate to the nature of the information to be disseminated.

Section 515 denotes four substantive terms regarding information disseminated by Federal agencies: quality, utility, objectivity, and integrity. It is not always clear how each substantive term relates—or how the four terms in aggregate relate—to the widely divergent types of information that agencies disseminate. We have proposed a definition that attempts to establish a clear meaning so that both the agency and the public can readily judge whether a particular type of information to be disseminated does or does not meet these attributes. We specifically request comment on this definition and how it can be made clearer and less ambiguous for the agency and the public.

In the proposed guidelines, OMB points out that “quality,” “utility,” “objectivity,” and “integrity” are closely interrelated concepts. Collectively, these terms address the following three aspects of the information that is to be disseminated: whether the information is useful to all users of the information, including the public; whether the disseminated information is being presented in an accurate, clear, complete, and unbiased manner; and whether the information has been protected from unauthorized access or revision. OMB modeled the draft definitions of “information,” “government information,” “information dissemination product,” and “dissemination” on the longstanding definitions of those terms in OMB Circular A-130, but tailored them to fit into the context of these guidelines.

In addition, agencies have two reporting requirements. The first report, drafted no later than one year after the issuance of these OMB guidelines, must provide the agency's information quality guidelines that describe administrative mechanisms allowing affected persons to seek and obtain the correction of disseminated information that does not comply with these OMB guidelines. The second report is an annual report (starting a year after the issuance of the first report) detailing the number, nature, and resolution of complaints received by the agency regarding its perceived or confirmed failure to comply with these OMB guidelines.

Request for Comments

OMB has sought to craft standards and information resources management and administrative practices for ensuring information quality, utility, objectivity, and integrity that are rigorous, but that do not impose undue administrative burdens or hurdles that would inhibit or deter agencies from disseminating information that can be of great benefit to the public. The purpose of Section 515 is not to stifle information dissemination but to ensure that the public can justifiably have confidence in the information that Federal agencies disseminate and that affected persons will have administrative mechanisms for identifying problems and having the agencies take corrective action. OMB invites comments on whether the proposed guidelines have struck the appropriate balance, and suggestions for how the guidelines can be improved in this regard.

In addition, OMB specifically requests comments on the following questions:

• Federal agencies disseminate many types of information for many types of programs and functions. Should the OMB guidelines devote particular attention to specific types of information or information dissemination products? If so, please identify the areas where specific focus should be directed, explain why the focus is needed or is desirable, and describe any guidelines that you recommend for those areas.

• Should OMB develop specific guidelines to address information that Federal agencies disseminate from a web page? Is there any need to adapt these guidelines to the agency use of a web page? If so, what guidelines are needed?

OMB appreciates any comments on these and any other aspects of the proposed guidelines. After considering the comments that are received, OMB will develop and issue the final guidelines by September 30, 2001.

Dated: June 20, 2001.
Donald R. Arbuckle,
Deputy Administrator, Office of Information and Regulatory Affairs.

Proposed Guidelines for Ensuring and Maximizing the Quality, Objectivity, Utility, and Integrity of Information Disseminated by Federal Agencies

I. OMB Responsibilities

Section 515 of the Treasury and General Government Appropriations Act for FY2001 (Pub. L. 106-554) directs the Office of Management and Budget to issue government-wide guidelines that provide policy and procedural guidance to Federal agencies for ensuring and maximizing the quality, objectivity, utility, and integrity of information, including statistical information, disseminated by Federal agencies.

II. Agency Responsibilities

Section 515 directs agencies to—

1. Issue their own information quality guidelines ensuring and maximizing the quality, objectivity, utility, and integrity of information, including statistical information, disseminated by the agency no later than one year after the date of issuance of the OMB guidelines;

2. Establish administrative mechanisms allowing affected persons to seek and obtain correction of information maintained and disseminated by the agency that does not comply with these OMB guidelines; and

3. Report to the Director of OMB the number and nature of complaints received by the agency regarding agency compliance with these OMB guidelines concerning the quality (including the objectivity, utility, and integrity) of information and how such complaints were resolved.

III. Guidelines for Ensuring and Maximizing the Quality, Objectivity, Utility, and Integrity of Information Disseminated by Federal Agencies

1. Overall, agencies should adopt a high standard of quality (including objectivity, utility, and integrity) as a performance goal and should take appropriate steps to incorporate information quality criteria into agency information dissemination practices. Quality is to be ensured and established at levels appropriate to the nature of the information to be disseminated.

2. As a matter of good and effective agency information resources management, agencies should develop a process for reviewing and documenting for users the quality (including the objectivity, utility, and integrity) of information before it is disseminated. Agencies should treat information quality as integral to every step of an agency's use of information, including creation, collection, maintenance, and dissemination. This process should enable the agency to attest to the quality of the information it has disseminated.

Discussion. Agencies may want to consider developing different processes to address different types of information. Many statistical and research organizations already possess a wealth of quality standards and evaluative processes that agencies may want to draw from. For example, OMB has issued “Guidelines to Standardize Measures of Costs and Benefits and the Format of Accounting Statements” (OMB Memorandum M-00-08, March 22, 2000) to standardize the way agencies should measure the benefits and costs of Federal regulatory actions.

In a larger information management context, agencies should consider using their Enterprise Architecture (EA) (as required by the Information Technology Management Reform Act (Public Law 104-106) also known as “Clinger-Cohen”) to help determine how existing resources can best fill needs for quality data.

3. As a matter of citizen review, agencies should establish administrative mechanisms allowing affected persons to seek and obtain correction of information maintained and disseminated by the agency that does not comply with these OMB guidelines. These administrative mechanisms should be consonant with established agency practice, flexible, and appropriate to the nature of the disseminated information.

IV. Agency Reporting Requirements

Discussion. The reporting requirements imposed on agencies by Section 515 build upon Section 9(a)(4) of OMB Circular A-130, “Management of Federal Information Resources.” Under that provision, agency Chief Information Officers must:

“Monitor agency compliance with the policies, procedures, and guidance in this Circular. Acting as an ombudsman, the Chief Information Officer must consider alleged instances of agency failure to comply with this Circular, and recommend or take appropriate action. The Chief Information Officer will report instances of alleged failure and their resolution annually to the Director of OMB, by February 1st of each year.” (65 FR 77684, December 12, 2000).

1. The Chief Information Officer (CIO) of each agency serves as an ombudsman in resolving complaints about the agency's compliance with Circular A-130, and, consistent with agency practice and existing organizational responsibilities, with these guidelines.

2. The agency should respond in written form to the complainant.

3. The agency must draft a report, no later than one year after the issuance of these OMB guidelines, providing the agency information quality guidelines ensuring and maximizing the quality, objectivity, utility, and integrity of information, including statistical information, disseminated by the agency. This report also must detail the administrative mechanisms developed by that agency to allow affected persons to seek and obtain correction of information maintained and disseminated by the agency that does not comply with these OMB guidelines.

4. The agency must submit this draft report to the Director of OMB for review. Upon completion of that review and completion of this report, agencies must publish notice of the availability of this report in the Federal Register, and post this report on the agency's web site (in a way similar to the Freedom of Information Act citizen handbooks that each agency maintains in its electronic reading room).

5. On an annual basis (starting a year after the issuance of the first report in the Federal Register), each agency must submit a report to the Director of OMB detailing the number and nature of complaints received by the agency regarding agency compliance with these OMB guidelines concerning the quality (including the objectivity, utility, and integrity) of information and how such complaints were resolved. Agencies should submit these reports under the reporting requirement for the Government Performance and Results Act (GPRA).

V. Definitions

1. “Quality,” “Utility,” “Objectivity,” and “Integrity” are closely interrelated concepts. Collectively, these terms address the following three aspects of the information that is to be disseminated:

A. Whether the information is useful to all users of the information, including the public. In assessing the usefulness of information that the agency disseminates to the public, the agency needs to consider the uses of the information not only from the perspective of the agency but also from the perspective of the public. As a result, when the issues of the reproducibility and transparency of the information are relevant for assessing the information's usefulness from the public's perspective, the agency must take care to ensure that reproducibility and transparency have been taken into account. For disseminated information to be useful, the presentation should clearly reflect the quality of the information.

Discussion. In developing and reviewing proposed collections of information under the PRA, OMB and the agencies have for the past 20 years evaluated collections under the rubric of “practical utility.” As agencies and OMB have interpreted the PRA definition of “practical utility” over the past 20 years, it is clear that it has focused not only on usefulness to the agency, but also—as appropriate—on usefulness to the public. In the context of Section 515, with the emphasis on dissemination to the public, the focus is expanded explicitly to include a dimension of the usefulness of the information to those to whom the agency disseminates it.

B. Whether the disseminated information is being presented in an accurate, clear, complete, and unbiased manner.

i. This involves whether the information is presented within a proper context. Sometimes, in disseminating certain types of information to the public, other information must also be disseminated in order to ensure an accurate, clear, complete, and unbiased presentation. Also, the agency needs to identify the sources of the disseminated information (to the extent possible, consistent with confidentiality protections), so that the public can assess for itself whether there may be some reason to question the objectivity of the sources.

ii. In addition, in the context of scientific and statistical information, this also involves a focus on assuring accurate, reliable, and unbiased information.

a. With respect to scientific research information, the results must be substantially reproducible upon independent analysis of the underlying data.

b. In a statistical context, the information was obtained using sound statistical methods and error sources affecting data quality are identified and disclosed to users.

C. Whether the information has been protected from unauthorized access or revision, to ensure that the information is not compromised through corruption, or falsification.

(For ease of reference, the Guidelines will sometimes refer to these four statutory terms, collectively, as “quality.”)

2. “Information” means any communication or representation of knowledge such as facts, data, or opinions in any medium or form, including textual, numerical, graphic, cartographic, narrative, or audiovisual forms. This definition includes information that an agency disseminates from a web page, but does not include the provision of hyperlinks to information others disseminate.

3. “Government information” means information created, collected, processed, disseminated, or disposed of by or for the Federal Government.

4. “Information dissemination product” means any book, paper, map, machine-readable material, audiovisual production, or other documentary material, regardless of physical form or characteristic, an agency disseminates to the public. This definition includes any electronic document, CD-ROM, or web page.

5. “Dissemination” means the government initiated distribution of information to the public. Dissemination does not include distribution limited to government employees or agency contractors or grantees; intra- or inter-agency use or sharing of government information; and responses to requests for agency records under the Freedom of Information Act (5 U.S.C. 552) or Privacy Act. This definition also does not include distribution limited to replies to correspondence, and subpoenas or judicial process.

[FR Doc. 01-16227 Filed 6-27-01; 8:45 am]

BILLING CODE 3110-01-P